DEPARTMENT OF AGRICULTURE

Forest Service

Notice of Resource Advisory Committee Meeting

AGENCY: North Central Idaho Resource Advisory Committee, Grangeville, ID, USDA, Forest Service.

ACTION: Notice of meeting.

SUMMARY: Pursuant to the authorities in the Federal Advisory Committee Act (Public Law 92-463) and under the Secure Rural Schools and Community Self-Determination Act of 2000 (Public Law 102-393) the Nez Perce and Clearwater National Forests' North Central Idaho Resource Advisory Committee will meet Thursday, June 25, 2002 in Elk City, Idaho for a business meeting. The meeting is open to the public.

SUPPLEMENTARY INFORMATION: The business meeting on June 25, begins at 2 p.m., at the Elk City Forest Service Ranger Station, Elk City Idaho. Agenda topics will include review FY03 work plans. A public forum will begin at 3 p.m. (PST).

FOR FURTHER INFORMATION CONTACT: Ihor Mereszczak, Staff Officer and Designated Federal Officer, at (208) 983-1950.

Dated: June 24, 2002.
Ihor Mereszczak,
Acting Forest Supervisor.

[FR Doc. 02-16548 Filed 7-1-02; 8:45 am]

BILLING CODE 3410-11-M